DEPARTMENT OF LABOR

Employment and Training Administration

[NAFTA-003790]

3-I, Incorporated Murrells Inlet, South Carolina; Notice of Termination of Investigation

Pursuant to Title V of the North American Free Trade Agreement Implementation Act Public Law 103-1 concerning transitional adjustment assistance, hereinafter called NAFTA-TAA and in accordance with Section 250(a), Subchapter D, Chapter 2, Title II, of the Trade Act of 1974, as amended (19 U.S.C. 2331), an investigation was initiated on March 8, 2000, in response to a petition filed on behalf of workers at 3-I, Inc., Murrells Inlet, South Carolina. Workers produced t-shirts.

The petitioner has requested that the petition be withdrawn due to lack of significant worker separations. Consequently, further investigation in this case would serve no purpose, and the investigation has been terminated.

Signed in Washington, DC this 10th day of May, 2000.
Grant D. Beale,
Program Manager, Division of Trade Adjustment Assistance.

[FR Doc. 00-12510 Filed 5-17-00; 8:45 am]

BILLING CODE 4510-30-M